DEPARTMENT OF HEALTH AND HUMAN SERVICES

Centers for Medicare & Medicaid Services

[CMS-3448-CN]

Medicare Program; Announcement of the Re-Approval of COLA Under the Clinical Laboratory Improvement Amendments of 1988; Correction

AGENCY: Centers for Medicare & Medicaid Services (CMS), Department of Health and Human Services (HHS).

ACTION: Notice; correction.

SUMMARY: This document corrects technical errors that appeared in the notice published in the March 6, 2024 Federal Register titled “Medicare Program; Announcement of the Re-Approval of COLA Under the Clinical Laboratory Improvement Amendments of 1988.”

DATES:

Effective date: This correction notice is effective November 19, 2025.

Applicability Date: The corrections in this notice are applicable to the re-approval of COLA as an Accreditation Organization for clinical laboratories under the Clinical Laboratory Improvement Amendments of 1988 (CLIA) from March 6, 2024 to March 6, 2030.

FOR FURTHER INFORMATION CONTACT: Sam Cyrus, (443) 896-4827.

SUPPLEMENTARY INFORMATION:

I. Background

In FR Doc. 2024-04674 of March 6, 2024 (89 FR 15994 through 15996), there were technical errors that are identified and corrected in this correcting document.

II. Summary of Errors

On page 15994 in the SUMMARY section, we inadvertently omitted the subspecialty of Urinalysis from the list of specialties and subspecialties under the Clinical Laboratory Improvement Amendments of 1988 (CLIA) for which COLA was re-approved as an accreditation organization. On pages 15994 and 15995, we also inadvertently omitted the subspecialty of Urinalysis in two bulleted paragraphs.

III. Correction of Errors

In FR Doc 2024-04674 of March 6, 2024 (89 FR 15994 through 15995), make the following corrections:

1. On page 15994,

a. Second column, first partial paragraph (SUMMARY section), lines 5 through 7, the phrase “Chemistry, including Routine Chemistry, Toxicology, and Endocrinology;” is corrected to read “Chemistry, including Routine Chemistry, Toxicology, Endocrinology, and Urinalysis;”.

b. Third column, first bulleted paragraph, lines 1 through 3, the paragraph “• Chemistry, including Routine Chemistry, Toxicology, and Endocrinology.” is corrected to read “• Chemistry, including Routine Chemistry, Toxicology, Endocrinology, and Urinalysis.”.

2. On page 15995, first column, first bulleted paragraph, lines 1 through 3, the paragraph “• Chemistry, including Routine Chemistry, Toxicology, and Endocrinology.” is corrected to read “• Chemistry, including Routine Chemistry, Toxicology, Endocrinology, and Urinalysis.”.

The Director of the Office of Strategic Operations and Regulatory Affairs of the Centers for Medicare & Medicaid Services (CMS), Kathleen Cantwell, having reviewed and approved this document, authorizes Trenesha Fultz-Mimms, who is the Federal Register Liaison, to electronically sign this document for purposes of publication in the Federal Register.

Trenesha Fultz-Mimms,
Federal Register Liaison, Centers for Medicare & Medicaid Services.

[FR Doc. 2025-20328 Filed 11-18-25; 8:45 am]

BILLING CODE 4120-01-P